DEPARTMENT OF VETERANS AFFAIRS

[OMB Control No. 2900-0919]

Agency Information Collection Activity Under OMB Review: Servicemembers' Group Life Insurance—Traumatic Injury Protection (TSGLI) Application for TSGLI Benefits and TSGLI Appeal Request Form

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0919.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0919” in any correspondence.

SUPPLEMENTARY INFORMATION:

Authority: Public Law 104-13; 44 U.S.C. 3501-3521.

Title: Service Members' Group Life Insurance—Traumatic Injury Protection (TSGLI) Application for TSGLI Benefits (SGLV 8600) And TSGLI Appeal Request Form (SGLV 8600A)

OMB Control Number: 2900-0919.

Type of Review: Extension of a currently approved collection.

Abstract: The SGLV 8600 form is used by the Department of Veterans Affairs to request information in order to adjudicate TSGLI claims for benefits. The form is filled out by members or former members of the uniformed services who have suffered a traumatic injury while in service, and the uniformed services approve or disapprove the claim. If the uniformed services approve the TSGLI claim, then the insurer for the TSGLI program, The Prudential Insurance Company of America (Prudential), pays the claim. The form is authorized by 38 U.S.C. 1980A and 38 CFR 9.20.

The SGLV 8600a form is used by the Department of Veterans Affairs to request information in order to adjudicate TSGLI appeals for benefits. The form is filled out by members or former members of the uniformed services who have suffered a traumatic injury while in service and had their TSGLI claim disapproved. The form is authorized by 38 U.S.C. 1980A and 38 CFR 9.20.

An agency may not conduct or sponsor, and a person is not required to respond to a collection of information unless it displays a currently valid OMB control number. The Federal Register Notice with a 60-day comment period soliciting comments on this collection of information was published at: 87 FR 80262 on December 29, 2022, pages 80262.

Affected Public: Individuals or Households.

Estimated Annual Burden: 190 hours.

Estimated Average Burden per Respondent: 15 minutes.

Frequency of Response: One per year.

Estimated Number of Respondents: 758.

By direction of the Secretary.
Maribel Aponte,
VA PRA Clearance Officer, Office of Enterprise and Integration, Data Governance Analytics, Department of Veterans Affairs.

[FR Doc. 2023-04363 Filed 3-2-23; 8:45 am]

BILLING CODE 8320-01-P